ENVIRONMENTAL PROTECTION AGENCY

[FRL-8053-6]

Notice of Availability of Revisions to Proposed NPDES General Permits for Small Municipal Separate Storm Sewer Systems (MS4s) in New Mexico, Indian Country Lands in New Mexico and Indian Country Lands in Oklahoma

AGENCY: Environmental Protection Agency (EPA).

ACTION: Notice of availability.

SUMMARY: EPA Region 6 is announcing the availability of a supplemental fact sheet describing proposed revisions to, and is reopening the comment period for, previously proposed National Pollutant Discharge Elimination System (NPDES) general permits for storm water discharges from small municipal separate storm sewer systems (MS4s) located in the State of New Mexico (NMR040000), Indian Country Lands in New Mexico (NMR04000I), and Indian Country Lands in Oklahoma (OKR04000I). These permits were previously publically noticed on September 9, 2003 (68 FR 53166) and a 45 day public comment period on all parts of the permits was provided at that time. The public comment period is being reopened for the limited purpose of accepting public comments on changes which have been made to the draft permits primarily as a method to address a decision by the United States Court of Appeals for the Ninth Circuit, which remanded certain portions of the Phase II NPDES storm water regulations related to issuance of general permits for small MS4s. The Region is accepting comments only on today's proposed changes to the draft permits. Following the close of the comment period, the Director will make a final permit decision based on comments received during both the initial comment period and the reopened comment period.

DATES: Comments on today's revisions to these draft permits must be submitted by May 4, 2006. Comments must be received or postmarked by midnight on the last day of the comment period. EPA is not required to consider late comments.

ADDRESSES: Comments on today's revisions to the draft general permits should be sent to Docket No. 6WQ-03-SW01, Attn: Ms. Diane Smith, EPA Region 6, Water Quality Protection Division (6WQ-CA), 1445 Ross Avenue, Suite 1200, Dallas, Texas 75202-2733. Comments may also be submitted in electronic format (Wordperfect 9, MS Word 2000, or ASCII Text formats only, avoiding use of special characters) to: the above address or via e-mail to smith.diane@epa.gov. No facsimiles (faxes) will be accepted. Copies of information in the record are available upon request from the contacts below. A reasonable fee may be charged for copying.

FOR FURTHER INFORMATION CONTACT: Additional information concerning the draft permits may be obtained from Ms. Diane Smith, EPA Region 6, 1445 Ross Avenue, Dallas, Texas 75202-2733, telephone (214) 665-2145. The supplemental fact sheet describing the modifications being noticed today, along with the originally proposed general permit and fact sheet documents, are available at http://www.epa.gov/earth1r6/6wq/npdes/sw/ms4/.

SUPPLEMENTARY INFORMATION: The originally proposed general permits and the modifications being proposed today cover storm water discharges from municipal separate storm sewer systems (MS4s) meeting the definition of a “small municipal separate storm sewer system” at 40 CFR 122.26(b)(16) and designated under 40 CFR 122.32(a)(1) or 40 CFR 122.32(a)(2). An MS4 consists of a system of conveyances (including roads with drainage systems, municipal streets, catch basins, curbs, gutters, ditches, manmade channels, or storm drains) that collects storm water; is owned or operated by the United States, a State, city, town, borough, county, parish, district, association, or other public body (created by or pursuant to State law) having jurisdiction over disposal of sewage, industrial wastes, storm water, or other wastes, including special districts under State law such as a sewer district, flood control district or drainage district, or similar entity, or an Indian tribe or an authorized Indian tribal organization, or a designated and approved management agency under section 208 of the CWA; and discharges to waters of the United States. A small MS4 typically serves a population of less than 100,000. Only those small MS4s located in a Census-defined Urbanized Area or having been designated by the Director are required to apply for permits (see 40 CFR 122.32). Maps of Urbanized Areas and lists of cities and counties within them are available online at http://cfpub.epa.gov/npdes/stormwater/urbanmaps.cfm.

Subsequent to EPA Region 6's proposal of the general permits for small MS4s on September 9, 2003, the U.S. Court of Appeals for the Ninth Circuit denied EPA's petition for rehearing in litigation over EPA's storm water Phase II regulations. Environmental Defense Center, et al. v. EPA, No. 70014 & consolidated cases (9th Cir., Sept. 15, 2003). Plaintiffs in that litigation challenged the Phase II NPDES storm water regulations issued by EPA pursuant to Clean Water Act (CWA) section 402(p)(6). Among other things, the Phase II regulations require NPDES permits for storm water discharges from certain MS4s for which NPDES permits were not required under CWA section 402(p)(2) and the Phase I NPDES storm water regulations. The regulations also require the newly regulated MS4s to develop, implement, and enforce a storm water management program containing, amongst other things, best management practices (BMPs) identified by the discharger. The regulations authorize the use of general permits and require that these BMPs (as well as measurable goals associated with these BMPs) be identified in the Notice of Intent (NOI) filed by the MS4 in seeking authorization under a general permit. Relying on the “traditional'' general permit model, the Agency did not require NOIs to be reviewed by the Agency, made available to the public for review and comment, or to be subject to public hearings. The Ninth Circuit held that EPA's failure to address these issues in establishing NOI requirements violated various provisions of CWA section 402, and remanded the Phase II regulations on three grounds related to the use of NPDES permits to authorize discharges from small MS4s: (1) Public availability of Notices of Intent (NOIs), (2) opportunity for public hearing, and (3) Permitting Authority review of NOIs.

On April 16, 2004, EPA's Office of Wastewater Management issued guidance to NPDES Permitting Authorities entitled “Implementing the Partial Remand of the Stormwater Phase II Regulations Regarding Notices of Intent & NPDES General Permitting for Phase II MS4s” (available at http://www.epa.gov/npdes/pubs/hanlonphase2apr14signed.pdf). This document provides guidance to permitting authorities on addressing the Court's partial remand when issuing general permits for small MS4s. Today's revisions to the originally proposed general permits are in response to the partial remand to the Phase II regulations and issues raised in the Court's decision and are consistent with EPA's Office of Wastewater Management Guidance.

The public comment period on the proposed general permits is being reopened, in accordance with procedures at 40 CFR 124.14, for the limited purpose of accepting public comments on today's proposed changes to the draft permits. EPA's public comment and public hearing procedures may be found at 40 CFR 124.10 and 124.12 (48 FR 142664, April 1, 1983, as amended at 49 FR 38051, September 26, 1984). Following the end of the supplemental comment period, the Director will make a final permit decision and notice will be published in the Federal Register.

Authority: Clean Water Act, 33 U.S.C. 1251 et seq.

Dated: March 24, 2006.
Miguel I. Flores,
Director, Water Quality Protection Division, EPA Region 6.

[FR Doc. E6-4844 Filed 4-3-06; 8:45 am]

BILLING CODE 6560-50-P